DEPARTMENT OF TRANSPORTATION

Office of the Secretary

Notice of Applications for Certificates of Public Convenience and Necessity and Foreign Air Carrier Permits Filed Under Subpart B (Formerly Subpart Q) During the Week Ending March 6, 2010

The following Applications for Certificates of Public Convenience and Necessity and Foreign Air Carrier Permits were filed under Subpart B (formerly Subpart Q) of the Department of Transportation's Procedural Regulations. (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2000-6796.

Date Filed: March 1, 2010.

Due Date for Answers, Conforming Applications, or Motion to Modify Scope: March 22, 2010.

Description: Application of Aerolineas Santo Domingo, S.A. requesting renewal of its exemption and a foreign air carrier permit to conduct scheduled foreign air transportation of persons, property and mail between the Dominican Republic and the United States.

Docket Number: DOT-OST-2010-0058.

Date Filed: March 5, 2010.

Due Date for Answers, Conforming Applications, or Motion to Modify Scope: March 26, 2010.

Description: Application of Dynamic Airways, LLC d/b/a Dynamic Aviation (“Airways”) requesting a certificate of public convenience and necessity authorizing Airways to engage in interstate charter air transportation of persons, property and mail.

Barbara J. Hairston,
Supervisory Dockets Officer, Docket Operations, Alternate Federal Register Liaison.

[FR Doc. 2010-5807 Filed 3-16-10; 8:45 am]

BILLING CODE 4910-9X-P